DEPARTMENT OF TRANSPORTATION

Federal Aviation Administration

14 CFR Part 71

[Airspace Docket No. 99-AGL-60]

Proposed Modification of Class E Airspace; Watertown, SD, and Britton, SD

AGENCY: Federal Aviation Administration (FAA), DOT.

ACTION: Notice of proposed rulemaking.

SUMMARY: This action proposes to modify Class E airspace at Watertown, SD, and Britton, SD. A review of the controlled airspace within the States of North Dakota and South Dakota conducted after the cancellation of a portion of Federal Airway 220 (V-220), Airspace Docket No. 98-AGL-49, published September 7, 1999, has indicated several small portions of Class G uncontrolled airspace being created between Wahpeton, ND, and Brookings, SD. Controlled airspace extending upward from 1200 feet above ground level (AGL) is needed to allow the FAA to provide safe and efficient air traffic control services for aircraft executing enroute and terminal instrument procedures into and out of numerous airports in that area. These small portions of uncontrolled airspace cause confusion for both pilots and controllers and do not allow for consistent application of instrument flight rules in a critical area servicing these airports. This action proposes to eliminate these Class G portions of airspace between Wahpeton, ND, and Brookings, SD, by revising the Class E airspace for Watertown, SD. This revision causes a minor change to the airspace exclusions in the legal description for the Class E airspace for Britton, SD.

DATES: Comments must be received on or before March 7, 2000.

ADDRESSES: Send comments on the proposal in triplicate to: Federal Aviation Administration, Office of the Assistant Chief Counsel, AGL-7, Rules Docket No. 99-AGL-60, 2300 East Devon Avenue, Des Plaines, Illinois 60018.

The official docket may be examined in the Office of the Assistant Chief Counsel, Federal Aviation Administration, 2300 East Devon Avenue, Des Plaines, Illinois. An informal docket may also be examined during normal business hours at the Air Traffic Division, Airspace Branch, Federal Aviation Administration, 2300 East Devon Avenue, Des Plaines, Illinois.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed above. Commenters wishing the FAA to acknowledge receipt of their comments on this action must submit with those comments a self-addressed, stamped postcard on which the following statement is made: “Comments to Airspace Docket No. 99-AGL-60.” The postcard will be date/time stamped and returned to the commenter. All communications received on or before the specified closing date for comments will be considered before taking action on the proposed rule. The proposal contained in this action may be changed in light of comments received. All comments submitted will be available for examination in the Rules Docket, FAA, Great Lakes Region, Office of the Assistant Chief Counsel, 2300 East Devon Avenue, Des Plaines, Illinois, both before and after the closing date for comments. A report summarizing each substantive public contact with FAA personnel concerned with this rulemaking will be filed in the docket.

Availability of NPRM's

Any person may obtain a copy of this Notice of Proposed Rulemaking (NPRM) by submitting a request to the Federal Aviation Administration, Office of Public Affairs, Attention: Public Inquiry Center, APA-230, 800 Independence Avenue, SW, Washington, DC 20591, or by calling (202) 267-3484. Communications must identify the docket number of this NPRM. Persons interested in being placed on a mailing list for future NPRM's should also request a copy of Advisory Circular No. 11-2A, which describes the application procedure.

The Proposal

The FAA is considering an amendment to 14 CFR part 71 to modify Class E airspace at Watertown, SD, and Britton, SD, to accommodate aircraft executing instrument flight procedures into and out of numerous airports in southeastern North Dakota, northeastern South Dakota, and western Minnesota. Several small portions of uncontrolled airspace between Wahpeton, ND, and Brookings, SD, created as a result of the cancellation of a portion of Federal Airway 220 (V-220), Airspace Docket No. 98-AGL-49, published September 7, 1999 (64 FR 48527), would be eliminated. The area would be depicted on appropriate aeronautical charts. Class E airspace areas extending upward from 700 feet or more above the surface of the earth are published in paragraph 6005 of FAA Order 7400.9G dated September 1, 1999, and effective September 16, 1999, which is incorporated by reference in 14 CFR 71.1. The Class E airspace designations listed in this document would be published subsequently in the Order.

The FAA has determined that his proposed regulation only involves an established body of technical regulations for which frequent and routine amendments are necessary to keep them operationally current. Therefore this, proposed regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule will not have a significant economic impact on a substantial number of small entities under the criteria of the Regulatory Flexibility Act.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

* * * * *

Paragraph 6005 Class E airspace areas extending upward from 700 feet or more above the surface of the earth.

* * * * *

AGL SD E5 Watertown, SD [Revised]

Watertown Municipal Airport, SD

(Lat. 44°54′51″N., long. 097°09′17″W.)

Watertown VORTAC

(Lat. 44°58′47″N., long. 097°08′30″W.)

That airspace extending upward from 700 feet above the surface within a 6.8-mile radius of Watertown Municipal Airport and within 4.0 miles each side of the Watertown VORTAC 006° radial extending from the 6.8-mile radius to 10.6 miles north of the airport, and within 1.9 miles each side of the south localizer courses extending from the 6.8-mile radius to 11.7 miles south of the airport, and that airspace extending upward from 1,200 feet above the surface within an area bounded on the north by lat. 46°30′00″N., on the east by the Minnesota/North Dakota and Minnesota/South Dakota borders, on the south by lat. 44°30′00″N, and on the west by long. 097°00′00″W, excluding that airspace within the Fargo, ND, 1,200 foot Class E airspace area and all Federal airways.

* * * * *

AGL SD E5 Britton, SD

Britton Municipal Airport, SD

(Lat. 45°48′57″N., long. 097°44′39″W.)

That airspace extedning upward from 700 feet above the surface within a 7.0-mile radius of the Britton Municipal Airport, and that airspace extending upward from 1,200 feet above the surface bounded on the west by long. 98°30′00″W, on the north by lat. 46°30′00″N, on the east by long. 97° 00′ 00″W, and on the south by lat. 44°30′00″N, excluding the Fargo, ND, Huron, SD, and Aberdeen, SD 1,200 foot Class E airspace areas and all Federal airways.

* * * * *

Issued in Des Plaines, Illinois on January 7, 2000.
Christopher R. Blum,
Manager, Air Traffic Division.

[FR Doc. 00-2253 Filed 2-1-00; 8:45 am]

BILLING CODE 4910-13-M